ENVIRONMENTAL PROTECTION AGENCY

[FRL-6945-7]

Agency Information Collection Activities OMB Responses

AGENCY: Environmental Protection Agency (EPA).

ACTION: Notices.

SUMMARY: This document announces the Office of Management and Budget's (OMB) responses to Agency clearance requests, in compliance with the Paperwork Reduction Act (44 U.S.C. 3501 et. seq.). An agency may not conduct or sponsor, and a person is not required to respond to, a collection of information unless it displays a currently valid OMB control number. The OMB control numbers for EPA's regulations are listed in 40 CFR part 9 and 48 CFR Chapter 15.

FOR FURTHER INFORMATION CONTACT: Sandy Farmer at 260-2740, or email at Farmer.sandy@epa.gov, and please refer to the appropriate EPA Information Collection Request (ICR) Number.

SUPPLEMENTARY INFORMATION:

OMB Responses to Agency Clearance Requests

OMB Approvals

EPA ICR No. 1204.08; Submission of Unreasonable Adverse Effects Information under FIFRA Section 6(a)(2); in 40 CFR part 159; was approved 01/25/2001; OMB No. 2070-0039, expires 01/31/2004.

EPA ICR No. 0010.09; Importation Requirements for Importation of Nonconforming Vehicles; in 40 CFR 85.1501, and 89.601, 19 CFR 12.73 and 12.74; was approved 01/26/2001; OMB No. 2060-0095; expires 08/31/2003.

EPA ICR No. 0783.40; Motor Vehicle Emission Standards and Emission Credits Provisions under the Tier 2 Rule; in 40 CFR part 86; was approved 01/31/2001; OMB No. 2060-0104; expires 12/31/2001.

EPA ICR No. 0282.12; Emission Defect Information Reports (DIR) and Voluntary Emission Recall Reports (VERR); in 40 CFR part 85, subpart T, 40 CFR part 89, subpart I, and 40 CFR part 90, subpart I, 40 CFR part 91, subpart J, and 40 CFR part 92, subpart E; was approved 01/31/2001; OMB No. 2060-0048; expires 01/31/2004.

EPA ICR No. 0794.09; Notification of Substantial Risk of Injury to Health and the Environment under TSCA Section 8(e); was approved 01/31/2001; OMB No. 2070-0046; expires 01/31/2003.

EPA ICR No. 1916.01; Emission Defect Information and Voluntary Emission Recall Reports for On-Highway, Light-Duty Vehicles; in 40 CFR parts 85.1901 and, 85.1909; was approved 01/31/2001; OMB No. 2060-0425; expires 01/31/2004.

OMB Disapproval

EPA ICR No. 1921.01; Compliance Assistance Tool Evaluation Surveys; on 01/31/2001 OMB disapproved this collection.

Comments Filed

EPA ICR No. 0916.09; Consolidated Emissions Reporting (Revision); in 40 CFR parts 51.321, 51.322 and, 51.323; on 01/30/2001 OMB filed comment; OMB comment number No. 2060-0088.

EPA ICR No. 1844.02; Recordkeeping and Reporting Requirements for Petroleum Refinery NESHAP; on 01/30/2001 OMB determined that the Information Collection Request was improperly submitted and should be resubmitted when the final rule is sent to the Office of the Federal Register for publication.

EPA ICR No. 1982.01; Recordkeeping and Reporting Requirements for NESHAP from Rubber Tire Manufacturing; on 01/29/2001 OMB filed comment; OMB comment number 2060-0449.

EPA ICR No. 1850.02; NESHAP for Primary Copper Smelters; in 40 CFR part 63, subparts A and QQQ; on 01/29/2001 OMB filed comment; OMB comment number 2060-0438.

EPA ICR No. 1985.01; NESHAP for Leather Finishing Operations; on 02/02/2001 OMB filed comment; OMB comment number 2060-0448.

Short Term Extension

EPA ICR No. 1761.02; Regulations for a Voluntary Emissions Standards Program Applicable to Manufacturers of Light-Duty Vehicles and Trucks Beginning in Model Year 1977; in 40 CFR part 86; OMB No. 2060-0345; on 01/31/2001 OMB extended the expiration date through 04/30/2001.

Dated: February 9, 2001.
Oscar Morales,
Director, Collection Strategies Division.

[FR Doc. 01-4116 Filed 2-16-01; 8:45 am]

BILLING CODE 6560-50-U